FEDERAL ELECTION COMMISSION

Sunshine Act Meeting

FEDERAL REGISTER CITATION NOTICE OF PREVIOUS ANNOUNCEMENT:86 FR 10074. PREVIOUSLY ANNOUNCED TIME AND DATE OF THE MEETING: Tuesday, February 23, 2021 at 10:00 a.m. and its continuation at the conclusion of the open meeting on February 25, 2021.

CHANGES IN THE MEETING: This meeting will also discuss: Information the premature disclosure of which would be likely to have a considerable adverse effect on the implementation of a proposed Commission action.

* * * * *

CONTACT FOR MORE INFORMATION: Judith Ingram, Press Officer, Telephone: (202) 694-1220.

Vicktoria J. Allen,
Acting Deputy Secretary of the Commission.

[FR Doc. 2021-04167 Filed 2-24-21; 4:15 pm]

BILLING CODE 6715-01-P